INTERNATIONAL TRADE COMMISSION

[USITC SE-01-042]

Sunshine Act Meeting

Agency Holding the Meeting: United States International Trade Commission.

Time and Date: December 13, 2001 at 2 p.m.

Place: Room 101, 500 E Street SW., Washington, DC 20436, Telephone: (202) 205-2000.

Status: Open to the public.

Matters to be Considered:

1. Agenda for future meeting: None.

2. Minutes.

3. Ratification List.

4. Inv. Nos. 731-TA-267-268 (Review)(Remand)(Top-of-Stove Stainless Steel Cooking Ware from Korea and Taiwan)—briefing and vote. (The Commission is currently scheduled to transmit its views on remand to the Court of International Trade on December 26, 2001.)

5. Inv. No. 731-TA-921 (Final)(Folding Gift Boxes from China)—briefing and vote. (The Commission is currently scheduled to transmit its determination to the Secretary of Commerce on December 21, 2001.)

6. Outstanding action jackets: None.

In accordance with Commission policy, subject matter listed above, not disposed of at the scheduled meeting, may be carried over to the agenda of the following meeting. Earlier announcement of this meeting was not possible.

Issued: December 5, 2001.
By order of the Commission:
Donna R. Koehnke,
Secretary.

[FR Doc. 01-30450 Filed 12-5-01; 2:06 pm]

BILLING CODE 7020-02-P